ENVIRONMENTAL PROTECTION AGENCY

[EPA-HQ-OPPT-2019-0075; FRL-9994-01]

Certain New Chemicals; Receipt and Status Information for January 2019; Correction

AGENCY: Environmental Protection Agency (EPA).

ACTION: Notice; correction.

SUMMARY: EPA is hereby correcting information presented in a notice that published in the Federal Register of April 10, 2019. That notice provided information concerning submissions to EPA under TSCA Section 5, but inadvertently duplicated test submission information from the previous month. EPA is providing the test information received in January 2019, and providing an opportunity for public comment on this information.

DATES: Comments identified by the specific case number provided in this document must be received on or before July 1, 2019.

ADDRESSES: Submit your comments, identified by docket identification (ID) number EPA-HQ-OPPT-2019-0075, and the specific case number for the chemical substance related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, Information Management Division (7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. What action is the Agency taking?

In the Federal Register of April 10, 2019 (84 FR 14365) (FRL-9991-20), EPA published information pertaining to submissions in January 2019 under TSCA Section 5, including notice of receipt of a Premanufacture notice (PMN), Significant New Use Notice (SNUN) or Microbial Commercial Activity Notice (MCAN), including an amended notice or test information; an exemption application (Biotech exemption); an application for a test marketing exemption (TME), both pending and/or concluded; a notice of commencement (NOC) of manufacture (including import) for new chemical substances; and a periodic status report on new chemical substances that are currently under EPA review or have recently concluded review. Subsequent to that publication, a stakeholder noticed that the information in Table II of Unit III. appeared to be identical to the information provided for December 2018 (see 84 FR 14368, April 10, 2019) (FRL-9990-59). EPA is hereby publishing the corrected information for January 2019 and providing an opportunity for public comments on this new information.

II. What is this correction?

In Unit I.A., the first sentence incorrectly identified the period covered by the notice as “from 01/01/2019 to 12/31/2019,” rather than just the month of January. Instead, it should have identified the period covered by the notice as “from 01/01/2019 to 01/31/2019.”

In addition, the information in Table II of Unit III., which appears on page 14367, is corrected to read as follows:

Table II—Test Information Received From 01/01/2019 to 01/31/2019
Case No. | Received date | Type of test information | Chemical substance
P-11-0483 | 1/3/2019 | Mouse and Rat Combined Repeated-Dose Oral (Gavage) Toxicity Study with the Reproduction/Developmental Toxicity Screening Test (OECD Test Guideline 422) | (G) Alkyl thiol.
SN-18-0013 | 1/3/2019 | Industrial Hygiene Monitoring Report | (G) Lithiated metal oxide.
P-19-0019 | 1/3/2019 | Skin Irritation Study; Reconstructed human Cornea-like Epithelium (RhCE) test method for identifying chemicals not requiring classification and labelling for eye irritation or serious eye damage (OECD Test Guideline 492) | (G) Haloalkane.
P-16-0462 | 1/9/2019 | Metals Analysis Report Quarter 4 2018 | (G) Ash (residues), reaction products with tetraethoxydioxa-polyheteroatom-disilaalkane.
P-13-0679 | 1/10/2019 | Routine/Annual/Quarterly Testing and Reporting: Certification of Analysis | (G) Fluoroalkyl acrylate copolymer.
P-19-0032 | 1/15/2019 | Test Item related to chemical composition, purity, strength, stability and other data required by current OECD Good Laboratory Practices (OECD Test Guidelines 101-105, 109, 111, 117 and 121) | (G) Carbonic dichloride, polymer with 4,4′-(1-methylethylidene)bis[phenol] ester, polymer with tetrol and polyether tetrol.
P-16-0150 | 1/16/2019 | A 5-day Toxicity Study of HCFC-243db by Whole-Body Inhalation in Sprague Dawley Rats, 5-day Toxicity Study of HCFC-243db by Whole-Body Inhalation in CD-1 Mice, and 5-day Toxicity Study of HCFC-243db by Whole-Body Inhalation in Albino Rabbits | (G) Chlorofluorocarbon.
P-16-0543 | 1/18/2019 | Exposure Monitoring Report | (G) Halogenophosphoric acid metal salt.
P-10-0183 | 1/23/2019 | Routine/Annual Testing and Reporting: Certifications of Analysis | (G) Alkyl alkanoate.
P-10-0184 | 1/23/2019 | Routine/Annual Testing and Reporting: Certifications of Analysis | (G) Alkyl ethoxylate.
P-10-0185 | 1/23/2019 | Routine/Annual Testing and Reporting: Certifications of Analysis | (G) Alkyl phosphate salt.
P-10-0186 | 1/23/2019 | Routine/Annual Testing and Reporting: Certifications of Analysis | (G) Alkyl phosphate salt.
P-14-0712 | 1/28/2019 | PCCD/F EPA Test Method 8290A | (G) Waste plastics, pyrolyzed, C5-55 fraction.

As explained in the original notice, (S) indicates that the information in the table is the specific information provided by the submitter, and (G) indicates that this information in the table is generic information because the specific information provided by the submitter was claimed as CBI.

Authority: 15 U.S.C. 2601 et seq.

Dated: May 23, 2019.
Megan Carroll,
Acting Director, Information Management Division, Office of Pollution Prevention and Toxics.

[FR Doc. 2019-11260 Filed 5-29-19; 8:45 am]

BILLING CODE 6560-50-P